DEPARTMENT OF TRANSPORTATION

Federal Aviation Administration

14 CFR Part 39

[Docket No. FAA-2014-0009; Directorate Identifier 2013-NM-123-AD; Amendment 39-17887; AD 2014-13-11]

RIN 2120-AA64

Airworthiness Directives; The Boeing Company Airplanes

AGENCY: Federal Aviation Administration (FAA), DOT.

ACTION: Final rule.

SUMMARY: We are adopting a new airworthiness directive (AD) for all The Boeing Company Model 707 airplanes, and Model 720 and 720B series airplanes. This AD was prompted by reports of scribe-line-related fatigue cracks on Model 727 airplanes, which are similar in design to Model 707 airplanes, and Model 720 and 720B series airplanes. This AD requires inspections for scribe lines in the skin lap joints, external approved repairs, external features, skin butt joints, and decals; and related investigative and corrective actions if necessary. This AD also requires surface finish restoration. We are issuing this AD to detect and correct scribe lines, which can develop into fatigue cracks in the skin and cause rapid decompression of the airplane.

DATES: This AD is effective August 19, 2014.

The Director of the Federal Register approved the incorporation by reference of a certain publication listed in this AD as of August 19, 2014.

DATES: For service information identified in this AD, contact Boeing Commercial Airplanes, Attention: Data & Services Management, P. O. Box 3707, MC 2H-65, Seattle, WA 98124-2207; telephone 206-544-5000, extension 1; fax 206-766-5680; Internet https://www.myboeingfleet.com. You may view this service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0009; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Chandraduth Ramdoss, Aerospace Engineer, Airframe Branch, ANM-120L, FAA, Los Angeles Aircraft Certification Office (ACO), 3960 Paramount Boulevard, Suite 100, Lakewood, CA 90712-4137, phone: 562-627-5239; fax: 562-627-5210; email: chandraduth.ramdoss@faa.gov.

SUPPLEMENTARY INFORMATION:

Discussion

We issued a notice of proposed rulemaking (NPRM) to amend 14 CFR part 39 by adding an AD that would apply to all The Boeing Company Model 707 airplanes, and Model 720 and 720B series airplanes. The NPRM published in the Federal Register on February 10, 2014 (79 FR 7598). The NPRM was prompted by reports of scribe-line-related fatigue cracks on Model 727 airplanes, which are similar in design to Model 707 airplanes, and Model 720 and 720B series airplanes. The NPRM proposed to require inspections for scribe lines in the skin lap joints, external approved repairs, external features, skin butt joints, and decals; and related investigative and corrective actions if necessary. The NPRM also proposed to require surface finish restoration. We are issuing this AD to detect and correct scribe lines, which can develop into fatigue cracks in the skin and cause rapid decompression of the airplane.

Comments

We gave the public the opportunity to participate in developing this AD. We received no comments on the NPRM (79 FR 7598, February 10, 2014) or on the determination of the cost to the public.

Changes to This AD

We revised paragraphs (k)(1) and (k)(3) of this AD to update the aircraft certification office (ACO) information from the Seattle ACO to the Los Angeles ACO. The Los Angeles ACO is now the office of primary responsibility for the airplane models affected by this final rule.

Conclusion

We reviewed the relevant data and determined that air safety and the public interest require adopting this AD with the changes described previously except for minor editorial changes. We have determined that these minor changes:

• Are consistent with the intent that was proposed in the NPRM (79 FR 7598, February 10 2014) for correcting the unsafe condition; and

• Do not add any additional burden upon the public than was already proposed in the NPRM (79 FR 7598, February 10 2014).

Costs of Compliance

We estimate that this AD affects 11 airplanes of U.S. registry.

We estimate the following costs to comply with this AD:

Estimated Costs
Action | Labor cost | Parts cost | Cost per product | Cost on U.S. operators
Inspection | 96 work-hours × $85 per hour = $8,160 | $0 | $8,160 | $89,760

We have received no definitive data that would enable us to provide cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-13-11 The Boeing Company: Amendment 39-17887; Docket No. FAA-2014-0009; Directorate Identifier 2013-NM-123-AD.

(a) Effective Date

This AD is effective August 19, 2014.

(b) Affected ADs

None.

(c) Applicability

This AD applies to The Boeing Company airplanes, certificated in any category, identified in paragraphs (c)(1) and (c)(2) of this AD.

(1) All Model 707-100 long body, -200, -100B long body, and -100B short body series airplanes; and Model 707-300, -300B, -300C, and -400 series airplanes.

(2) All Model 720 and 720B series airplanes.

(d) Subject

Air Transport Association (ATA) of America Code 53, Fuselage.

(e) Unsafe Condition

This AD was prompted by reports of scribe-line-related fatigue cracks on Model 727 airplanes, which are similar in design to the Model 707 airplanes, and Model 720 and 720B series airplanes. We are issuing this AD to detect and correct scribe lines, which can develop into fatigue cracks in the skin and cause rapid decompression of the airplane.

(f) Compliance

Comply with this AD within the compliance times specified, unless already done.

(g) Scribe Line Inspection

(1) Except as specified in paragraphs (j)(1) and (j)(2) of this AD, at the applicable time specified in paragraph 1.E., “Compliance,” of Boeing 707 Alert Service Bulletin A3539, dated April 26, 2013: Do a detailed inspection of the fuselage skin for scribe lines, in accordance with the Accomplishment Instructions of Boeing 707 Alert Service Bulletin A3539, dated April 26, 2013. If no scribe line is found: Before further flight, do surface finish restoration, in accordance with the Accomplishment Instructions of Boeing 707 Alert Service Bulletin A3539, dated April 26, 2013.

(2) The inspection exceptions described in paragraph 1.E., “Compliance,” of Boeing 707 Alert Service Bulletin A3539, dated April 26, 2013, apply to paragraph (g)(1) of this AD.

(h) Related Investigative and Corrective Actions

If any scribe line is found during any inspection required by paragraph (g)(1) of this AD: At the applicable time specified in paragraph 1.E., “Compliance,” of Boeing 707 Alert Service Bulletin A3539, dated April 26, 2013, except as specified in paragraphs (j)(1) and (j)(2) of this AD, do all applicable related investigative and corrective actions, by doing all applicable actions specified in the Accomplishment Instructions of Boeing 707 Alert Service Bulletin A3539, dated April 26, 2013, except as specified in paragraph (j)(3) of this AD.

(i) Surface Finish Restoration

After completing any actions required by paragraph (h) of this AD: Before further flight, do surface finish restoration, in accordance with the Accomplishment Instructions of Boeing 707 Alert Service Bulletin A3539, dated April 26, 2013.

(j) Exceptions to Paragraphs (g) and (h) of this AD

(1) Where paragraph 1.E., “Compliance,” of Boeing 707 Alert Service Bulletin A3539, dated April 26, 2013, specifies a compliance time “after the original issue date of this service bulletin,” this AD requires compliance within the specified compliance time after the effective date of this AD.

(2) Where the Condition column of paragraph 1.E., “Compliance,” of Boeing 707 Alert Service Bulletin A3539, dated April 26, 2013, refers to total flight cycles “as of the original issue date of this service bulletin,” this AD applies to the airplanes with the specified total flight cycles as of the effective date of this AD.

(3) Where Boeing 707 Alert Service Bulletin A3539, dated April 26, 2013, specifies to contact Boeing for additional inspections or repair instructions: Before further flight, repair the scribe line or cracking using a method approved in accordance with the procedures specified in paragraph (k) of this AD.

(k) Alternative Methods of Compliance (AMOCs)

(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l) of this AD. Information may be emailed to: 9-ANM-LAACO-AMOC-REQUESTS@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Los Angeles ACO, to make those findings. For a repair method to be approved, the repair must meet the certification basis of the airplane, and the approval must specifically refer to this AD.

(l) Related Information

For more information about this AD, contact Chandraduth Ramdoss, Aerospace Engineer, Airframe Branch, ANM-120L, FAA, Los Angeles Aircraft Certification Office (ACO), 3960 Paramount Boulevard, Suite 100, Lakewood, CA 90712-4137, phone: 562-627-5239; fax: 562-627-5210; email: chandraduth.ramdoss@faa.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing 707 Alert Service Bulletin A3539, dated April 26, 2013.

(ii) Reserved.

(3) For Boeing service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on June 24, 2014.
Jeffrey E. Duven,
Manager, Transport Airplane Directorate, Aircraft Certification Service.

[FR Doc. 2014-15507 Filed 7-14-14; 8:45 am]

BILLING CODE 4910-13-P